DEPARTMENT OF DEFENSE

Department of the Army

Army Education Advisory Subcommittee Meeting Notice

AGENCY: Department of the Army, DoD.

ACTION: Notice of open meeting.

SUMMARY: Under the provisions of the Federal Advisory Committee Act of 1972 (5 U.S.C., Appendix, as amended), the Government in the Sunshine Act of 1976 (5 U.S.C. 552b, as amended) and 41 CFR 102-3.150, the Department of Defense announces that the following Federal advisory committee meeting will take place:

Name of Committee: Board of Visitors (BoV), Defense Language Institute (DLI) Foreign Language Center Subcommittee.

Date: December 11, 2013 and December 12, 2013.

Time of Meeting: Approximately 7:45 a.m. through 4:30 p.m. Please allow extra time for gate security for both days.

Location: Defense Language Institute Foreign Language Center and Presidio of Monterey (DLIFLC & POM), Building 614, Conference Room, Monterey, CA 93944.

Purpose of the Meeting: The purpose of the meeting is to provide an overview of DLIFLC's Foreign Language Program to the BoV. In addition, the meeting will involve administrative matters.

Proposed Agenda: Summary—December 11—Board administrative details, DLIFLC current initiatives and lifelong learning. December 12—The Board will have time to compile observations pertaining to agenda items on December 11 and deliberations leading to provisional findings will be referred to the Army Education Advisory Committee for deliberation by the Committee under the open-meeting rules.

Public's Accessibility to the Meeting: Pursuant to 5 U.S.C. 552b and 41 CFR 102-3.140 through 102-3.165, and the availability of space, this meeting is open to the public. Seating is on a first come basis. No member of the public attending open meetings will be allowed to present questions from the floor or speak to any issue under consideration by the Board. Although open to the public, gate access is required. Contact the Sub-Committee's Alternate Designated Federal Officer, below, for gate access procedures.

Sub-Committee's Alternate Designated Federal Officer or Point of Contact: Dr. Robert Savukinas, Sub-Committee's Alternate Designated Federal Officer: ATFL-APO, Monterey, CA 93944, Robert.Savukinas@us.army.mil, (831) 242-5828.

SUPPLEMENTARY INFORMATION: Pursuant to 41 CFR 102-3.105(j) and 102-3.140 and section 10(a)(3) of the Federal Advisory Committee Act of 1972, the public may submit written statements to the Board of Visitors of the DLI in response to the agenda. All written statements shall be submitted to the ADFO for DLI Board of Visitors (see FOR FURTHER INFORMATION CONTACT). Statements must be received by the ADFO at least 10 work days prior to the meeting. Written statements received after this date may not be provided to or considered by the Board of Visitors of the DLI until its next meeting. The ADFO will review all timely submissions with the Chairperson, and ensure they are provided to the members of the respective subcommittee before the meeting. After reviewing written comments, the Chairperson and the ADFO may choose to invite the submitter of the comments to orally present their issue during open portion of this meeting or at a future meeting. The ADFO, in consultation with the Chairperson, may allot a specific amount of time for the members of the public to present their issues for review and discussion.

FOR FURTHER INFORMATION CONTACT: For information, please contact Dr. Robert Savukinas, at robert.savukinas@us.army.mil. Written submissions are to be submitted to the following address: Defense Language Institute Foreign Language Center, ATTN: Alternate Designated Federal Officer (Savukinas), ATFL-APO, Monterey, CA 93944.

Brenda S. Bowen,
Army Federal Register Liaison Officer.

[FR Doc. 2013-27517 Filed 11-15-13; 8:45 am]

BILLING CODE 3710-08-P